DEPARTMENT OF THE INTERIOR

Bureau of Land Management

[NV-056-1430-ES; N-41568-38]

Notice of Realty Action: Transfer of Title

AGENCY: Bureau of Land Management, Interior.

ACTION: Title Transfer of Recreation or Public Purpose Patent # 27-96-0002.

SUMMARY: The following described public land in Las Vegas, Clark County, Nevada, was patented to the Clark County School District on November 27, 1995 under the Recreation and Public Purpose Act for the Silverado High School. The Clark County Fire Department requests 2.5 acres of the patented land upon which to construct Fire Station 38. The land has been examined and found suitable for transfer under the provisions of the Federal Land Policy and Management Act (43 CFR 2741.6).

Mount Diablo Meridian, Nevada

T. 22 S., R. 61 E.,

Sec. 23, NE¼SE¼SE¼NW¼.

Containing 2.5 acres, more or less, located at Serene Avenue and Spencer Street.

The land is not required for any federal purpose. The title transfer is consistent with current Bureau planning for this area and would be in the public interest. The transfer will be subject to the provisions of the Federal Land Policy and Management Act and applicable regulations of the Secretary of the Interior, and the land will continue to be subject to the following reservations to the United States:

1. A right-of-way thereon for ditches or canals constructed by the authority of the United States, Act of August 30, 1890, (26 Stat. 391, 43 U.S.C. 945).

2. All mineral deposits in the lands so patented, and to it, or persons authorized by it, the right to prospect for, mine, and remove such deposits from the same under applicable law and regulations to be established by the Secretary of the Interior and will be subject to:

1. Easements in accordance with the Clark County Transportation Plan.

2. Those rights for power line purposes which have been granted to Nevada Power Company by right-of-way number N-15291 under the Act of October 21, 1976 (43 U.S.C. 1761).

Detailed information concerning this action is available for review at the office of the Bureau of Land Management, Las Vegas Field Office, 4765 Vegas Drive, Las Vegas, Nevada or by calling (702) 647-5088.

For a period of 45 days from the date of publication of this notice in the Federal Register, interested parties may submit comments regarding the proposed title transfer to the Las Vegas Field Manager, Las Vegas Field Office, 4765 Vegas Drive, Las Vegas, Nevada 89108.

Application Comments: Interested parties may submit comments regarding the application as to whether the BLM followed proper administrative procedures in reaching the decision or any other factor directly related to the suitability of the land for a fire station. Any adverse comments will be reviewed by the State Director who may sustain, vacate, or modify this realty action. In the absence of any adverse comments, this realty action will become the final determination of the Department of the Interior. The lands will not be offered for title transfer until 60 days from the date of publication in the Federal Register.

Dated: November 29, 2000.
Rex Wells,
Assistant Field Manager, Las Vegas, NV.

[FR Doc. 00-31009 Filed 12-5-00; 8:45 am]

BILLING CODE 4510-HC-P